DEPARTMENT OF TRANSPORTATION

Federal Aviation Administration

14 CFR Part 71

[Docket No. FAA-2024-1347; Airspace Docket No. 23-AWP-47]

RIN 2120-AA66

Amendment of United States Area Navigation Routes Q-1 and Q-902, Very High Frequency Omnidirectional Range Federal Airway V-495, and Jet Route J-502. Also, the Revocation of Jet Route J-589 and the Establishment of United States Area Navigation Route T-487 and Canadian Area Navigation Route T-895 in Northwestern United States.

AGENCY: Federal Aviation Administration (FAA), DOT.

ACTION: Notice of proposed rulemaking (NPRM).

SUMMARY: This action proposes to amend United States Area Navigation (RNAV) Routes Q-1 and Q-902, Very High Frequency Omnidirectional Range (VOR) Federal Airway V-495, and Jet Route J-502; revoke Jet Route J-589; and establish of United States RNAV Route T-487 and Canadian RNAV Route T-895 in Northwestern United States. The FAA is proposing these airspace actions due to the pending decommissioning of the Victoria, British Columbia (BC), Canada, VOR/Distance Measuring Equipment (VOR/DME).

DATES: Comments must be received on or before July 12, 2024.

ADDRESSES: Send comments identified by FAA Docket No. FAA-2024-1347 and Airspace Docket No. 23-AWP-47 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11H, Airspace Designations and Reporting Points, and subsequent amendments can be viewed online at www.faa.gov/air_traffic/publications/. You may also contact the Rules and Regulations Group, Office of Policy, Federal Aviation Administration, 800 Independence Avenue SW, Washington DC 20591; telephone: (202) 267-8783.

FOR FURTHER INFORMATION CONTACT: Steven Roff, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would amend the airway structure as necessary to preserve the safe and efficient flow of air traffic within the National Airspace System.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office of the Western Service Center, Federal Aviation Administration, 2200 South 216th St., Des Moines, WA 98198.

Incorporation by Reference

United States RNAV routes (Q-routes) are published in paragraph 2006, VOR Federal airways are published in paragraph 6010, Jet Routes are published in paragraph 2004, United States RNAV routes (T-routes) are published in paragraph 6011, and Canadian RNAV routes (T-routes) are published in paragraph 6013 of FAA Order JO 7400.11, Airspace Designations and Reporting Points, which is incorporated by reference in 14 CFR 71.1 on an annual basis. This document proposes to amend the current version of that order, FAA Order JO 7400.11H, dated August 11, 2023, and effective September 15, 2023. These updates would be published in the next update to FAA Order JO 7400.11. That order is publicly available as listed in the ADDRESSES section of this document.

FAA Order JO 7400.11H lists Class A, B, C, D, and E airspace areas, air traffic service routes, and reporting points.

Background

In 2003, Congress enacted the Vision 100-Century of Aviation Reauthorization Act (Pub L., 108-176), which established a joint planning and development office in the FAA to manage the work related to the Next Generation Air Transportation System (NextGen). Today, NextGen is an ongoing FAA-led modernization of the nation's air transportation system to make flying safer, more efficient, and more predictable.

In support of NextGen, this proposal is part of an ongoing, large, and comprehensive route modernization project. As part of this project, the FAA evaluated the existing Airway structure for: (a) direct replacement (i.e., overlay) with a route that offers a similar or lower Minimum En route Altitude (MEA) or Global Navigation Satellite System (GNSS) MEA; (b) the replacement of the airway with a route in an optimized but similar geographic area, while retaining similar or lower MEA; or (c) removal with no route structure restored in that area because the value was determined to be insignificant.

The aviation industry/users have indicated a desire for the FAA to transition the en route navigation structure away from dependency on NDBs and move to develop and improve the RNAV route structure.

Additionally, Canada is modernizing their airway systems by reducing the number of ground-based Navigational Aids (NAVAID) and transitioning to the use of the Global Positioning System (GPS) as the primary means of airway navigation. As part of this process, unused or unneeded ground-based NAVAIDs are being decommissioned. As part of NAV CANADA's program, the Victoria, BC, Canada, VOR/DME will be decommissioned and replaced with the new VIXOR, BC, Canada, waypoint (WP). The VIXOR WP will be approximately 43 feet from the current location of the Victoria VOR/DME. As a result of the NAVAID decommissioning, the airways/routes currently utilizing the Victoria VOR/DME will require amending or revocation. The Victoria VOR/DME decommissioning will impact J-589, J-502, Q-902 and V-495. In a separate initiative, the FAA and NAV CANADA are jointly replacing boundary computer navigation fix (CNF) names that are unpronounceable with five letter waypoints, which will be easier to pronounce.

The Proposal

The FAA is proposing an amendment to 14 CFR part 71 to amend RNAV Routes Q-1 and Q-902, VOR Federal Airway V-495, and Jet Route J-502. The FAA is also proposing the revocation of Jet Route J-589 and the establishment of United States RNAV Route T-487 and Canadian RNAV Route T-895 in Northwestern United States. The FAA is proposing this airspace action due to the pending decommissioning of the Victoria, BC, Canada, VOR/DME.

Q-1: Q-1 currently extends between the Point Reyes, CA, VOR/DME and the ELMAA, WA, Fix. The FAA is proposing to amend Q-1 by extending it north of the ELMAA fix to the SQUIM, WA, WP. The SQUIM WP is a new waypoint that will replace the current CFPZJ CNF on the United States and Canadian border. The proposed route description for Q-1 also removes route points that will remain on the route but are not required to be included in the description due to them representing a less than one degree turn. As amended, Q-1 would extend between the Point Reyes VOR/DME and the SQUIM WP.

Q-902: Q-902 currently extends between the Seattle, WA, VORTAC and the Kotzebue, AK, VOR/DME, excluding the airspace within Canada. The location of the route point DISCO, currently north of the Canadian and United States border, will be relocated to the border and replace the current CNF CDGPN. Additionally, the waypoint HIGHE will replace the computer navigation fix CFSTF. The FAA is proposing to add the route point DISCO to the route description of Q-902. With this addition, the route point ORCUS would no longer be required to be included in the route description. Additionally, the FAA proposes to amend the route description by removing the points within Canada from the description. As amended, Q-902 would extend between the Kotzebue, AK, VOR/DME and the AYZOL, AK, WP, between the WOGUS, AK, WP and the HIGHE, AK, WP and between the DISCO, WA, WP and the Seattle, WA, VORTAC. Additionally, the route points GESTI, AK, Fix, DOOZI, AK, Fix, HOODS, AK, Fix, AYZOL, AK, WP, RDFLG, AK, Fix and HRDNG, AK, Fix have been removed. These points are not required to be contained in the route description due to being a less than one degree turning point along the route.

V-495: V-495 currently extends between the Abbotsford, BC, Canada, NDB and the Fort Jones, CA, VOR/DME, excluding the airspace within Canada. The decommissioning of the Victoria VOR/DME will render V-495 between the Seattle VORTAC and the Whatcom, WA, VORTAC unusable. Additionally, NAV CANADA's rules for airway construction no longer accommodate an airway with a 90-degree turn. This impacts V-495 between the Victoria VOR/DME and the Whatcom VORTAC. The FAA is proposing to revoke the portion of V-495, within the United States, between the Seattle VORTAC and the Abbotsford, BC, Canada, NDB. The FAA is also proposing to establish RNAV routes T-487 and T-895, as described below, to replace the segments of V-495 proposed for revocation. Additionally, the route points have been adjusted to reflect a south to north order. As amended, V-495 would extend between the Fort Jones VOR/DME and the Seattle VORTAC.

J-502: J-502 currently extends between the Seattle, WA, VORTAC and the Sisters Island, AK, VORTAC and between the Northway, AK, VORTAC and the Kotzebue, AK, VOR/DME, excluding the airspace within Canada. With the decommissioning of the Victoria, BC, Canada, VOR/DME, J-502 will become unusable between the Seattle VORTAC and the border of the United States and Canada. The FAA proposes to revoke the portion of J-502 between the Seattle VORTAC and the Sisters Island VORTAC. As amended, J-502 would extend between the Kotzebue, AK, VOR/DME and the Northway, AK, VORTAC.

J-589: J-589 currently extends between the Roseburg, OR VOR/DME and the Victoria VOR/DME, excluding the airspace within Canada. The decommissioning of the Victoria VOR/DME will render a portion of J-589 unusable. The FAA is proposing to revoke J-589 in its entirety. To assist operators navigating this area, another route, RNAV route Q-1, overlays J-589 between the Roseburg VOR/DME and the ELMAA, WA, fix. Amendments proposed to Q-1 in this action would not affect the overlay.

T-487: T-487 is proposed to be established as a replacement for the segment of V-495 between the Seattle, WA, VORTAC and the United States and Canada border. The location of the route point DISCO, currently north of the Canadian and United States border, will be relocated to the border and replace the current CNF CDGPN. As amended, T-487 would extend between the Seattle, WA, VORTAC and the DISCO, WA, WP.

T-895: T-895 is proposed to be established as a replacement for the segment of V-495, within the United States, between the Victoria VOR/DME and the Whatcom, WA, VORTAC. The waypoint EPTER would replace the computer navigation fix CFZPT. T-895 would extend between the EPTER, WA, WP and the ADUMS, WA, WP.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 2004 Jet Routes.

* * * * *

J-502 [Amended]

From Kotzebue, AK; Fairbanks, AK; to Northway, AK.

* * * * *

J-589 [Removed]

* * * * *

Paragraph 2006 United States Area Navigation Routes.

* * * * *

Q-1 Point Reyes, CA, (PYE) to SQUIM, WA, WP [Amended]
Point Reyes, CA, (PYE) | VOR/DME | (Lat. 38°04′47.12″ N, long. 122°52′04.18″ W)
ETCHY, CA | WP | (Lat. 39°05′28.00″ N, long. 123°08′05.00″ W)
SQUIM, WA | WP | (Lat. 48°14′27.00″ N, long. 123°27′39.00″ W)

* * * * *

Q-902 Seattle, WA, (SEA) to KOTZEBUE, (OTZ) [Amended]
Kotzebue, AK (OTZ) | VOR/DME | (Lat. 66°53′08.46″ N, long. 162°32′23.77″ W)
Fairbanks, AK (FAI) | VORTAC | (Lat. 64°48′00.25″ N, long. 148°00′43.11″ W)
Northway, AK (ORT) | VORTAC | (Lat. 62°56′49.92″ N, long. 141°54′45.39″ W)
AYZOL, AK | WP | (Lat. 62°28′16.15″ N,. long. 141°00′00.00″ W)
and
WOGUS, AK | WP | (Lat. 59°17′02.82″ N, long. 136°28′09.43″ W)
Sisters Island, AK (SSR) | VORTAC | (Lat. 58°10′39.58″ N, long. 135°15′31.91″ W)
Level Island, AK (LVD) | VOR/DME | (Lat. 56°28′03.75″ N, long. 133°04′59.21″ W)
Annette Island, AK (ANN) | VOR/DME | (Lat. 55°03′37.47″ N, long. 131°34′42.24″ W)
HIGHE, AK | WP | (Lat. 54°41′50.08″ N, long. 131°11′21.72″ W)
and
DISCO, WA | WP | (Lat. 48°22′35.52″ N, long. 123°09′32.88″ W)
Seattle, WA (SEA) | VORTAC | (Lat. 47°26′07.34″ N, long. 122°18′34.62″ W)

* * * * *

Paragraph 6010 VOR Federal Airways.

* * * * *

V-495 [Amended]

From Fort Jones, CA; INT Fort Jones, CA 340° and Roseburg, OR 174° radials; INT Roseburg 355° and Corvallis, OR 195° radials; Corvallis; Newberg, OR; Battle Ground, WA; to Seattle, WA.

* * * * *

Paragraph 6013 Canadian Area Navigation Routes.

* * * * *

T-895 EPTER, WA to ADUMS, WA [NEW]
EPTER, WA | WP | Lat. 48°50′22.66″ N, long. 123°01′20.00″ W
ADUMS, WA | WP | Lat. 48°56′52.92″ N, long. 122°34′03.36″ W

* * * * *

Paragraph 6011 United States Area Navigation Routes.

* * * * *

T-487 Seattle, WA (SEA) to DISCO, WA [NEW]
Seattle, WA (SEA) | VORTAC | (Lat. 47°26′07.34″ N, long. 122°18′34.62″ W)
DISCO, WA | WP | (Lat. 48°22′35.52″ N, long. 123°09′30.88″ W)

* * * * *

Issued in Washington, DC, on May 22, 2024.
Brian E. Konie,
Acting Manager, Rules and Regulations Group.

[FR Doc. 2024-11637 Filed 5-24-24; 8:45 am]

BILLING CODE 4910-13-P